Title 3—

The President

Proclamation 7930 of September 16, 2005

National POW/MIA Recognition Day, 2005

By the President of the United States of America

A Proclamation

In every generation, members of our Armed Forces have answered the call of service in our Nation's hour of need. These patriots have defended our freedom and way of life, triumphed over brutal enemies, and answered the prayers of millions. On National POW/MIA Recognition Day, we honor the Americans who have been prisoners of war and recognize them for enduring unimaginable hardships while serving in military conflicts around the globe. We also remember those who are still missing in action, and we renew our commitment to keep searching until we have accounted for every Soldier, Sailor, Airman, and Marine missing in the line of duty.

On National POW/MIA Recognition Day, the flag of the National League of Families of American Prisoners and Missing in Southeast Asia is flown over the White House, the Capitol, the Departments of State, Defense, and Veterans Affairs, the Selective Service System Headquarters, the National Vietnam Veterans and Korean War Veterans Memorials, U.S. Military Installations, national cemeteries, and other locations across our country. The flag is a reminder of our continued commitment to those brave patriots imprisoned while serving in conflicts around the world and of our pledge to continue to achieve the fullest possible accounting for all our men and women in uniform who are still missing. Americans are blessed with the freedom made possible by the service and sacrifice of so many. On National POW/MIA Recognition Day, our entire Nation honors and pays special tribute to our prisoners of war and those who remain missing.

NOW, THEREFORE, I, GEORGE W. BUSH, President of the United States of America, by virtue of the authority vested in me by the Constitution and laws of the United States, do hereby proclaim Friday, September 16, 2005, as National POW/MIA Recognition Day. I call upon the people of the United States to join me in saluting all American POWs and those missing in action who valiantly served our country. I call upon Federal, State, and local government officials and private organizations to observe this day with appropriate ceremonies and activities.

IN WITNESS WHEREOF, I have hereunto set my hand this sixteenth day of September, in the year of our Lord two thousand five, and of the Independence of the United States of America the two hundred and thirtieth.

B

[FR Doc. 05-18869

Filed 9-19-05; 8:45 am]

Billing code 3195-01-P